DEPARTMENT OF AGRICULTURE

Forest Service

Red Knight Restoration Project, Winema National Forest, Klamath County, OR

AGENCY: Forest Service, USDA.

ACTION: Cancellation notice.

SUMMARY: On August 16, 1999, a Notice of Intent (NOI) to prepare an environmental impact statement for the Red Knight Restoration Project was published in the Federal Register (64 FR 44477). Since the project proposed action has been postponed and the date for any further environmental analysis is unknown, the 1999 NOI is hereby rescinded.

FOR FURTHER INFORMATION CONTACT: Jayne Goodwin, Red Knight Project Leader, Chemult Ranger District, P.O. Box 150, Chemult, Oregon 97731, telephone 541-365-7072 or e-mail at: jgoodwin/r6pnw_winema@fs.fed.us.

Dated: December 28, 2001.
Jack B. Sheehan,
Acting Forest Supervisor.

[FR Doc. 02-923 Filed 1-14-02; 8:45 am]

BILLING CODE 3410-11-M